FEDERAL COMMUNICATIONS COMMISSION

[OMB 3060-1249]

Information Collection Approved by the Office of Management and Budget

AGENCY: Federal Communications Commission.

ACTION: Notice.

SUMMARY: The Federal Communications Commission (FCC) has received Office of Management and Budget (OMB) approval for the following public information collections pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Eliot Greenwald, Disability Rights Office, Consumer and Governmental Affairs Bureau, at (202) 418-2235, or email: Eliot.Greenwald.@fcc.gov.

SUPPLEMENTARY INFORMATION:

OMB Control No.: 3060-1249.

OMB Approval Date: 01/18/2018.

Expiration Date: 07/31/2018.

Title: Telecommunications Relay Services and Speech-to-Speech Services for Individuals with Hearing and Speech Disabilities, CG Docket No. 03-123, Financial Data, Complaints, and Other Compliance Information.

Form No.: N/A.

Respondents: Business or other for-profit; Individuals or household; State, local or Tribal Governments.

Number of Respondents: 72 respondents; 3,614 responses.

Estimated Time per Response: 0.5 hours (30 minutes) to 50 hours.

Frequency of Response: Annual, monthly, on occasion, and one-time reporting requirements; Recordkeeping and Third-Party Disclosure requirements.

Obligation to Respond: Required to obtain or retain benefit. The statutory authority for the information collection requirements is found at section 225 of the Communications Act, 47 U.S.C. 225. The law was enacted on July 26, 1990, as Title IV of the ADA, Pub. L. 101-336, 104 Stat. 327, 366-69.

Total Annual Burden: 5,537 hours.

Total Annual Cost: $9,000.

Nature and Extent of Confidentiality: Confidentiality is an issue to the extent that individuals and households provide personally identifiable information, which is covered under the FCC's updated system of records notice (SORN), FCC/CGB-1, “Informal Complaints, Inquiries, and Requests for Dispute Assistance.” As required by the Privacy Act, 5 U.S.C. 552a, the Commission also published a SORN, FCC/CGB-1 “Informal Complaints, Inquiries, and Requests for Dispute Assistance,” in the Federal Register on August 15, 2014 (79 FR 48152) which became effective on September 24, 2014.

Privacy Impact Assessment: The FCC completed a Privacy Impact Assessment (PIA) on June 28, 2007. It may be reviewed at http://www.fcc.gov/omd/privacyact/Privacy-Impact-Assessment.html. The Commission is in the process of updating the PIA to incorporate various revisions to it as a result of revisions to the SORN.

Needs and Uses: On December 21, 2001, the Commission released the 2001 TRS Cost Recovery Order, document FCC 01-371, in which the Commission:

(a) Directed the Interstate Telecommunications Relay Services (TRS) Fund (TRS Fund) administrator to continue to use the average cost per minute compensation methodology for the traditional TRS compensation rate;

(b) required TRS providers to submit certain projected TRS-related cost and demand data to the TRS Fund Administrator to be used to calculate the rate; and

(c) directed the TRS Fund administrator to expand its form for providers to itemize their actual and projected costs and demand data, to include specific sections to capture speech-to-speech (STS) and video relay service (VRS) costs and minutes of use.

On November 19, 2007, the Commission released the 2007 Cost Recovery Order, document FCC 07-486, in which the Commission:

(a) Adopted a new cost recovery methodology for interstate traditional TRS and interstate STS based on the Multi-state Average Rate Structure (MARS) plan, under which interstate TRS compensation rates are determined by weighted average of the states' intrastate compensation rates, and which includes for STS additional compensation approved by the Commission for STS outreach;

(b) adopted a new cost recovery methodology for interstate captioned telephone service (CTS), as well as internet Protocol captioned telephone service (IP CTS), based on the MARS plan;

(c) adopted a cost recovery methodology for internet Protocol (IP) Relay based on price caps;

(d) adopted a cost recovery methodology for VRS that adopted tiered rates based on call volume;

(e) clarified the nature and extent that certain categories of costs are compensable from the Fund; and;

(f) addressed certain issues concerning the management and oversight of the Fund, including prohibiting financial incentives offered to consumers to make relay calls and the role of the Interstate TRS Fund Advisory Council.

47 CFR 64.604(c)(5)(iii)(D), mandatory minimum standards adopted in the 2007 Cost Recovery Order, requires that TRS providers submit to the TRS Fund administrator information reasonably requested by the administrator, including the following for intrastate traditional TRS, STS, and CTS:

(a) The per-minute compensation rate(s);

(b) whether the rate applies to session minutes or conversation minutes;

(c) the number of intrastate session minutes; and

(d) the number of intrastate conversation minutes.

47 CFR 64.604(a)(7) requires that in order for VRS providers to be compensated from the TRS Fund for U.S. residents making VRS calls from international points to the U.S., the providers must pre-register the users before they leave the country for the purpose of making VRS calls from international points for up to a maximum period of 4 weeks.

47 CFR 64.604(c)(1) requires each state and interstate TRS provider to maintain a log of consumer complaints and annually file a summary of the complaint log with the Commission.

47 CFR 64.604(c)(2) requires each state and interstate TRS provider to submit contact information to the Commission.

47 CFR 64.604(c)(5)(iii)(D)(3) requires providers to submit speed of answer data.

47 CFR 64.604(c)(5)(iii)(G) requires each new TRS provider to submit to the TRS Fund administrator a notification of its intent to participate in the TRS Fund 30 days prior to submitting its first report of TRS interstate minutes of use.

47 CFR 64.604(c)(6) provides procedures for consumers to file informal complaints alleging violations of the TRS rules, for TRS providers to respond to these complaints, and for the Commission to refer complaints concerning intrastate TRS to the states.

47 CFR 64.604(c)(7) requires that contracts between state TRS administrators and the TRS vendor provide for the transfer of TRS customer profile data from the outgoing TRS vendor to the incoming TRS vendor.

Federal Communications Commission.
Marlene H. Dortch,
Secretary, Office of the Secretary.

[FR Doc. 2018-01650 Filed 1-29-18; 8:45 am]

BILLING CODE 6712-01-P